DEPARTMENT OF HEALTH AND HUMAN SERVICES

Health Resources and Services Administration

Agency Information Collection Activities: Proposed Collection; Comment Request

In compliance with the requirement for the opportunity for public comment on proposed data collection projects (section 3506 (c) (2) (A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Maternal and Child Health Bureau (MCHB) Common Grant Guidance for Discretionary Grants (OMB No. 0915-0272)—Revision

The Health Resources and Services Administration (HRSA) proposes to continue utilization of current reporting requirements for SPRANS projects, CISS projects, and other grant programs administered by the Maternal and Child Health Bureau (MCHB), that include national performance measures developed in accordance with requirements of the “Government Performance and Results Act (GPRA) of 1993” [Pub. L. 103-62]. The MCHB developed and had approved by OMB a set of performance measures for its discretionary funding programs in 2003. No major changes have been made to the performance measures, only minor editorial or format changes have been made for clarification. The burden estimate for this activity is based upon information provided by current and past MCHB discretionary funds supported projects, as well as experience in completing the current forms. The reporting burden is as follows:

Type of form | Number of respondents | Responses per respondent | Burden hours per response | Total burden hours
Application/Annual Report | 750 | 1 | 6 | 4,500

Send comments to Susan G. Queen, Ph.D., HRSA Reports Clearance Officer, Room 10-33, Parklawn Building, 5600 Fishers Lane, Rockville, MD 20857. Written comments should be received within 60 day of this notice.

Dated: May 10, 2005.
Tina M. Cheatham,
Director, Division of Policy Review and Coordination.

[FR Doc. 05-9675 Filed 5-13-05; 8:45 am]

BILLING CODE 4165-15-P